DEPARTMENT OF COMMERCE

National Oceanic and Atmospheric Administration

RIN 0648-XB053

Endangered Species; File Nos. 15661, 10027, and 15685

AGENCY: National Marine Fisheries Service (NMFS), National Oceanic and Atmospheric Administration (NOAA), Commerce.

ACTION: Issuance of permits and permit modification.

SUMMARY: Notice is hereby given that NMFS has issued two permits and one permit modification to take green (Chelonia mydas) and hawksbill (Eretmochelys imbricata) sea turtles for scientific research. See SUPPLEMENTARY INFORMATION for information regarding permittees.

ADDRESSES: The permit and related documents are available for review upon written request or by appointment in the following offices:

Permits and Conservation Division, Office of Protected Resources, NMFS, 1315 East-West Highway, Room 13705, Silver Spring, MD 20910; phone (301) 427-8401; fax (301) 713-0376; and

Pacific Islands Region, NMFS, 1601 Kapiolani Blvd., Rm. 1110, Honolulu, HI 96814-4700; phone (808) 944-2200; fax (808) 973-2941.

FOR FURTHER INFORMATION CONTACT: Amy Hapeman or Colette Cairns, (301) 427-8401.

SUPPLEMENTARY INFORMATION: On May 11, 2011, notice was published in the Federal Register (76 FR 27306) that a request for a scientific research permit to take green and hawksbill sea turtles had been submitted by the Commonwealth of the Northern Mariana Islands (CNMI) Division of Fish and Wildlife, (Arnold Palacios, Responsible Party). On June 15, 2011, notice was published in the Federal Register (76 FR 34967) that a request for a scientific research permit modification to take green sea turtles had been submitted by the Center for Biodiversity and Conservation, American Museum of Natural History (AMNH; Responsible Party: Eleanor Sterling, Ph.D.). On June 20, 2011, notice was published in the Federal Register (76 FR 35842) that a request for a scientific research permit to take green and hawksbill sea turtles had been submitted by the NMFS Pacific Islands Fisheries Science Center (PIFSC; Samuel Pooley, Ph.D., Responsible Party). The requested permits and permit modification have been issued under the authority of the Endangered Species Act of 1973, as amended (ESA; 16 U.S.C. 1531 et seq.) and the regulations governing the taking, importing, and exporting of endangered and threatened species (50 CFR parts 222-226). The following summarizes each permit.

The CNMI was issued a five-year permit, No. 15661, to conduct research on sea turtles to characterize population structure, size class composition, foraging ecology, and migration patterns for green and hawksbill sea turtles in the Northern Mariana Islands. Authorized research consists of counts and hand captures of sea turtles during vessel surveys. Captured sea turtles may be measured, weighed, flipper tagged, passive integrated transponder (PIT) tagged, temporarily marked, tissue sampled, photographed, and released. A subset of the turtles may be satellite tagged before release and then tracked from the vessel. A small number of sea turtle carcasses, tissues or parts may be opportunistically salvaged each year.

The AMNH was issued a modification to Permit No. 10027-03, originally issued on July 30, 2008 (73 FR 44224). Permit No. 10027-03 authorized the AMNH to study the population biology and connectivity of green and hawksbill sea turtles focusing on distribution and abundance, ecology, health, and threats to sea turtles at the Palmyra Atoll in the Pacific Ocean. This modification, Permit No. 10027-04, increases the number of green sea turtles taken during research and the number of green sea turtles that may be sonic tagged annually. These data will help determine if temporal, stage-specific, or sex-specific movement patterns exist for the population of sea turtles at Palmyra. The modified permit expires on July 31, 2013.

The PIFSC was issued a five-year permit, No. 15685, to continue long-term monitoring of green and hawksbill sea turtles in the Hawaiian Islands to determine growth rates, health status, stock and population structure, foraging ecology, habitat use, and movements. Researchers may capture, measure, flipper and PIT tag, weigh, biologically sample (tissue, blood, scute, and lavage), and attach transmitters to green and hawksbill sea turtles before release.

Issuance of the permits, as required by the ESA, was based on a finding that such permits (1) were applied for in good faith, (2) will not operate to the disadvantage of such endangered or threatened species, and (3) are consistent with the purposes and policies set forth in section 2 of the ESA.

Dated: February 28, 2012.
P. Michael Payne,
Chief, Permits and Conservation Division, Office of Protected Resources, National Marine Fisheries Service.

[FR Doc. 2012-5307 Filed 3-2-12; 8:45 am]

BILLING CODE 3510-22-P